NUCLEAR REGULATORY COMMISSION

Regulatory Guide and Associated Review Plan; Withdrawal of Notice

AGENCY: Nuclear Regulatory Commission.

ACTION: Regulatory Guide and Associated Standard Review Plan Notice of Issuance and Availability: Withdrawal.

SUMMARY: The Nuclear Regulatory Commission (NRC) is withdrawing the notice of the issuance and availability of a Regulatory Guide for public comment (i.e., Regulatory Guide 1.200, Revision 1 and its associated Standard Review Plan). The NRC is taking this action because of the omission of information.

FOR FURTHER INFORMATION CONTACT: Mary Drouin, Office of Nuclear Regulatory Research, U.S. Nuclear Regulatory Commission, Washington, DC 20555-0001, telephone (301) 415-6675, e-mail MXD@NRC.Gov.

SUPPLEMENTARY INFORMATION: On August 10, 2006 (71 FN 45864), the NRC published a notice in the Federal Register stating that the Nuclear Regulatory Commission has issued for public comment a revision of a regulatory guide (and its associated Standard Review Plan), specifically Regulatory Guide 1.200, Revision 1, “An Approach for Determining the Technical Adequacy of Probabilistic Risk Assessment Results for Risk-Informed Activities,” which provides guidance to licensees in determining the technical adequacy of a probabilistic risk analysis used in risk-informed, integrated decision-making process, and to endorse standards and industry guidance. Certain pertinent information was inadvertently omitted from the notice; therefore, the NRC is withdrawing the notice. The NRC will issue a corrected notice with a revised date for the review and comment period.

Dated at Rockville, MD, this 14th day of August 2006.
For the Nuclear Regulatory Commission.
Farouk Eltawila,
Director, Division of Risk Assessment and Special Projects, Office of Nuclear Regulatory Research.

[FR Doc. E6-13635 Filed 8-17-06; 8:45 am]

BILLING CODE 7590-01-P